DEPARTMENT OF THE INTERIOR

Bureau of Land Management

[LLWO200000.18X L11100000.PH0000.LXSGPL000000]

Notice of Availability of the Utah Greater Sage-Grouse Proposed Resource Management Plan Amendment and Final Environmental Impact Statement, Utah

AGENCY: Bureau of Land Management, Interior.

ACTION: Notice of availability.

SUMMARY: In accordance with the National Environmental Policy Act of 1969, as amended, and the Federal Land Policy and Management Act of 1976, as amended, the Bureau of Land Management (BLM) has prepared the Utah Greater Sage-Grouse Proposed Resource Management Plan (Proposed RMP) Amendment and Final Environmental Impact Statement (Final EIS) for the Utah Greater Sage-Grouse Sub-Region. By this Notice, the BLM is announcing the opening of a protest period concerning the Proposed RMP Amendment and Final EIS.

DATES: A protest regarding the Proposed RMP Amendment announced with this notice must be filed by January 9, 2019.

ADDRESSES: The Proposed RMP Amendment/Final EIS is available on the BLM ePlanning project website at https://go.usa.gov/xP8xc. Click the Documents and Report link on the left side of the screen to find the electronic version of these materials. Hard copies of the Proposed RMP Amendment and Final EIS are available for public inspection at the BLM Utah State Office, 440 West 200 South, Suite 500, Salt Lake City, UT 84101 or on the project website listed above.

All protests must be in writing (43 CFR 1610.5-2(a)(1)) and filed with the BLM Director, either as a hard copy or electronically via the BLM's ePlanning project website listed previously. To submit a protest electronically, go to the ePlanning project website and follow the protest instructions highlighted at the top of the home page. If submitting a protest in hard copy, it must be mailed to one of the following addresses:

U.S. Postal Service Mail: BLM Director (210), Attention: Protest Coordinator, WO-210, P.O. Box 71383, Washington, DC 20024-1383.

Overnight Delivery: BLM Director (210), Attention: Protest Coordinator, WO-210, 20 M Street SE, Room 2134LM, Washington, DC 20003.

FOR FURTHER INFORMATION CONTACT: Quincy Bahr, Greater Sage-Grouse RMP Project Manager; telephone 801-539-4122; address 440 West 200 South, Suite 500, Salt Lake City, UT 84101; or by email qfbahr@blm.gov. Persons who use a telecommunications device for the deaf (TDD) may call the Federal Relay Service (FRS) at 1-800-877-8339 to contact Mr. Bahr. The FRS is available 24 hours a day, 7 days a week, to leave a message or question with Mr. Bahr. You will receive a reply during normal business hours.

SUPPLEMENTARY INFORMATION: The BLM prepared the Proposed RMP Amendment and Final EIS to analyze a range of alternatives that will continue conserving, enhancing, and restoring Greater Sage-Grouse and its habitat, while improving alignment with state management strategies for Greater Sage-Grouse. The plan also addresses a legal vulnerability, which was exposed when a Federal District Court in Nevada determined that the BLM had violated the National Environmental Policy Act when it finalized the 2015 plans.

The BLM developed the proposed land use plan amendment in collaboration with Utah Governor Gary Herbert, state wildlife managers, and other concerned organizations and individuals, largely through the Western Governors Association's Sage-Grouse Task Force. Using its discretion and authority under the Federal Land Policy and Management Act, the BLM proposes amending its land use plans that address Greater Sage-Grouse management to improve alignment with the State of Utah's plan, in accordance with the BLM's multiple use and sustained yield mission. Under the Federal Land Policy and Management Act, the BLM is required by law to work cooperatively with states on land-use plans and amendments.

This Proposed RMP Amendment/Final EIS is one of six separate planning efforts that are being undertaken in response to the Secretary's Order (SO) 3353 (Greater Sage-grouse Conservation and Cooperation with Western States) and in accordance with SO 3349 (American Energy Independence). The proposed plans refine the previous management plan adopted in 2015 and aims to strike a regulatory balance and build greater trust among neighboring interests in Western communities. The Proposed RMP Amendment and Final EIS proposes to amend the (RMPs) for field offices on BLM-administered lands within BLM Utah boundaries. The current management decisions for resources are described in the following RMPs:

• Box Elder Resource Management Plan (1986)

• Cedar/Beaver/Garfield/Antimony Resource Management Plan (1986)

• Grand Staircase-Escalante National Monument Management Plan (2000)

• House Range Resource Management Plan (1987)

• Kanab Resource Management Plan (2008)

• Park City Management Framework Plan (1975)

• Pinyon Management Framework Plan (1978)

• Pony Express Resource Management Plan (1990)

• Price Resource Management Plan (2008)

• Randolph Management Framework Plan (1980)

• Richfield Resource Management Plan (2008)

• Salt Lake District Isolated Tracts Planning Analysis (1985)

• Vernal Resource Management Plan (2008)

• Warm Springs Resource Management Plan (1987)

The planning area includes approximately 48,158,700 acres of BLM, National Park Service, United States Forest Service, U.S. Bureau of Reclamation, State, local, and private lands located in Utah, in 27 counties: Beaver, Box Elder, Cache, Carbon, Daggett, Davis, Duchesne, Emery, Garfield, Grand, Iron, Juab, Kane, Millard, Morgan, Piute, Rich, Salt Lake, Sanpete, Sevier, Summit, Tooele, Uintah, Utah, Wasatch, Wayne, and Weber. Within the decision area, which is limited to the portions of the planning area where the decisions from this process may apply, the BLM administers approximately 4 million acres of public land, providing approximately 3.4 million acres of Greater Sage-Grouse habitat. Surface management decisions made as a result of this Proposed RMP Amendment and Final EIS will apply only to BLM-administered lands in the decision area.

The formal public scoping process for the RMP Amendment/EIS began on October 11, 2017, with publication of a Notice of Intent in the Federal Register (82 FR 47248) and ended on December 1, 2017. The BLM Utah held public scoping meetings on November 14, 2017, in Vernal, Utah; on November 15, 2017, in Cedar City, Utah; and on November 16, 2017, in Snowville, Utah.

On May 4, 2018, the Notice of Availability for the Draft RMP Amendment/EIS was published, and the BLM accepted public comments on the range of alternatives, effects analysis and Draft RMP Amendment/EIS for 90 days, ending on August 2, 2018. During the public comment period public meetings were held in the following locations in Utah: June 26, 2018, in Cedar City, Utah; June 27, 2018 in Vernal, Utah; and June 28, 208, in Randolph, Utah.

The Draft RMP Amendment/EIS focused on the following issues: Sagebrush focal area designation; disturbance and density caps; mitigation; modification of habitat objectives; changes to fluid mineral leasing waivers, exceptions and modification criteria; the need for General Habitat Management Areas; exceptions to Greater Sage-Grouse management within non-habitat portions of Priority Habitat Management Areas; lek buffers; reversing adaptive management responses when the BLM determines that resource conditions no longer warrant those responses; prioritization of mineral leasing; land disposals and exchanges; predation; burial of transmission lines; decisions that require analysis of specific alternatives during implementation; adjustment of habitat boundaries to reflect new information; grazing systems and prioritization of grazing permits; water developments management in relation to water rights; travel and transportation management planning; and surface coal mining. The Draft RMP Amendment/EIS evaluated two alternatives in detail, including the No-Action Alternative and one action alternative, the Management Alignment Alternative. Comments on the Draft RMP Amendment/EIS received from the public and internal BLM review were considered and incorporated as appropriate into the Proposed RMP Amendment and Final EIS. The No-Action Alternative would retain the management goals, objectives, and direction specified in the current RMPs, as amended in 2015, for each field office. The Management Alignment Alternative has been identified as the BLM's Preferred Alternative. Identification of this alternative, however, does not represent final agency direction.

Instructions for filing a protest with the Director of the BLM regarding the Proposed RMP Amendment/Final EIS may be found online at https://www.blm.gov/programs/planning-and-nepa/public-participation/filing-a-plan-protest and at 43 CFR 1610.5-2. All protests must be in writing and mailed to the appropriate address, as set forth in the ADDRESSES section above or submitted electronically through the BLM ePlanning project website as described above. Protests submitted electronically by any means other than the ePlanning project website protest section will be invalid unless a protest is also submitted in hard copy. Protests submitted by fax will also be invalid unless also submitted either through ePlanning project website protest section or in hard copy.

Before including your address, phone number, email address, or other personal identifying information in your protest, please be aware that your entire protest, including your personal identifying information, may be made publicly available at any time. While you can ask us in your comment to withhold your personal identifying information from public review, we cannot guarantee that we will be able to do so.

Authority: 40 CFR 1506.6, 40 CFR 1506.10, 43 CFR 1610.2, 43 CFR 1610.5

Edwin L. Roberson,
BLM Utah State Director.

[FR Doc. 2018-26698 Filed 12-7-18; 8:45 am]

BILLING CODE 4310-33-P